DEPARTMENT OF AGRICULTURE

Forest Service

Shoshone Resource Advisory Committee

AGENCY: Forest Service, USDA.

ACTION: Notice of meeting.

SUMMARY: The Shoshone Resource Advisory Committee (RAC) will meet via conference call. The committee is authorized under the Secure Rural Schools and Community Self-Determination Act (the Act) and operates in compliance with the Federal Advisory Committee Act. The purpose of the committee is to improve collaborative relationships and to provide advice and recommendations to the Forest Service concerning projects and funding consistent with Title II of the Act. Additional RAC information, including the meeting agenda and the meeting summary/minutes can be found at the following Web site: http://cloudapps-usda-gov.force.com/FSSRS/RAC_Page?id=001t0000002JcvXAAS.

DATES: The meeting will be held Wednesday, January 6, 2016 at 10:00 a.m.

All RAC meetings are subject to cancellation. For status of meeting prior to attendance, please contact the person listed under FOR FURTHER INFORMATION CONTACT.

ADDRESSES: The meeting will be held via conference call. Members of the public wishing to call in should contact Shoshone RAC Coordinator, Olga Troxel, for call-in information.

Written comments may be submitted as described under SUPPLEMENTARY INFORMATION. All comments, including names and addresses when provided, are placed in the record and are available for public inspection and copying. The public may inspect comments received at Shoshone National Forest Supervisor's Office, 808 Meadow Lane, Cody, Wyoming. Please call ahead (307-527-6241) to facilitate entry into the building.

FOR FURTHER INFORMATION CONTACT: Olga Troxel by phone at 307-578-5164 or via email at otroxel@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is:

1. To update the Shoshone Resource Advisory Committee on the status of existing Title II projects, and

2. Strategize on advertising for project proposals for the current year

The meeting is open to the public. The agenda will include time for people to make oral statements of three minutes or less. Individuals wishing to make an oral statement should request in writing by December 30, 2015 to be scheduled on the agenda. Anyone who would like to bring related matters to the attention of the committee may file written statements with the committee staff before or after the meeting. Written comments and requests for time for oral comments must be sent to Olga Troxel, RAC Coordinator, 808 Meadow Lane, Cody, WY; or by email to otroxel@fs.fed.us, or via facsimile to 307-578-5112.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: December 3, 2015.
Joe G. Alexander,
Forest Supervisor.

[FR Doc. 2015-30975 Filed 12-9-15; 8:45 am]

BILLING CODE 3411-15-P